DEPARTMENT OF THE INTERIOR

Geological Survey

[GX20EG31DW50100; OMB Control Number 1028-New]

Agency Information Collection Activities; Hydrography Addressing tool

AGENCY: U.S. Geological Survey, Interior.

ACTION: Notice of Information Collection; request for comment.

SUMMARY: In accordance with the Paperwork Reduction Act of 1995, we, the U.S. Geological Survey (USGS) are proposing a new information collection.

DATES: Interested persons are invited to submit comments on or before April 5, 2021.

ADDRESSES: Send your comments on this information collection request (ICR) by mail to U.S. Geological Survey, Information Collections Officer, 12201 Sunrise Valley Drive MS 159, Reston, VA 20192; or by email to gs-info_collections@usgs.gov. Please reference OMB Control Number 1028-xxxx in the subject line of your comments.

FOR FURTHER INFORMATION CONTACT: To request additional information about this ICR, contact Michael Tinker by email at mdtinker@usgs.gov or by telephone at 303-202-4476.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Hydrography Addressing Tool (HydroAdd Tool) is a website application under development by the USGS National Geospatial Program, National Geospatial Technical Operations Center (NGTOC) which will allow users to reference stream network-specific geographic locations, also known as addressing, of their own data to the National Hydrography Dataset (NHD). Users must make their geospatial data available as a web feature service. The HydroAdd Tool will `consume' the user's web feature service and will allow users to edit the geometry of their own data and update the user's web feature service with attribute information of the coincident NHD features. Users cannot edit the NHD in this tool.

Anyone with the requisite technical knowledge can use HydroAdd tool. Users will register in the HydroAdd website and are assigned editing roles by the USGS application administrators. When registering, editors are required to fill out a profile that contains organizational contact information. This information is stored in the application database. A future iteration of the HydroAdd Tool may have reporting functions that are visible to all users. These reports could detail the edit submissions within specified date ranges. The user's email and organization could be visible on these reports and could be viewed by all users have editing privileges in the application.

Title of Collection: Hydrography Addressing Tool.

OMB Control Number: New.

Form Number: NA.

Type of Review: New.

Respondents/Affected Public: USGS Water Scientists, NHD stewards and editors affiliated with Federal, State, Local governments, and universities.

Total Estimated Number of Annual Respondents: 200.

Total Estimated Number of Annual Responses: 200.

Estimated Completion Time per Response: 1 hour.

Total Estimated Number of Annual Burden Hours: 200.

Respondent's Obligation: Voluntary.

Frequency of Collection: one time, or as needed if respondent business contact information changes.

Total Estimated Annual Nonhour Burden Cost: None.

An agency may not conduct or sponsor and a person is not required to respond to a collection of information unless it displays a currently valid OMB control number.

The authority for this action is the Paperwork Reduction Act of 1995 (44 U.S.C. 3501 et seq).

David Brostuen,
Acting Director, National Geospatial Technical Operations Center.

[FR Doc. 2021-02228 Filed 2-2-21; 8:45 am]

BILLING CODE 4338-11-P